GENERAL SERVICES ADMINISTRATION

[Notice-WWICC-2013-01; Docket No. 2013-0007; Sequence 1]

World War I Centennial Commission; Notification of Upcoming Public Advisory Meeting; Sunshine Act Meetings

Time and Date: Open: 9:30 a.m.-5:30 p.m. (Central Time) on Friday, September 13, 2013.

Place: The meeting will be held at the National World War 1 Museum at Liberty Memorial, 100 W. 26th Street, Kansas City, MO 64108.

Status: This meeting will be open to the public.

Matters To Be Considered:

Agenda

September 13, 2013

• Introductions and plans for today's meeting—DFO

• Swearing in of Commissioners—GSA HR

• Ethics Brief for Commissioners—GSA Legal

• Election of Chairperson and Vice Chairperson—DFO

• 30 minute public comment period for individuals pre-registered per instructions below. Each individual will be able to speak for no more than 5 minutes.

• Project/Activity discussion

• Foundation brief

• Other business

• Closing comments

Procedures for Public Participation

Contact Daniel S. Dayton at 202-254-5607 to register to comment during the meeting's 30 minute public comment period. Registered speakers/organizations will be allowed 5 minutes and will need to provide written copies of their presentations. Requests to comment at the meeting must be received by 5:00 p.m. Eastern time, September 10, 2013. Written comments may be provided to Mr. Dayton at daniel.dayton@dhs.gov until 5:00 p.m. Eastern time, September 10, 2013. Please contact Mr. Dayton at the email address above to obtain meeting materials.

Contact Person for More Information: Daniel S. Dayton, Designated Federal Officer, Department of Homeland Security, Science and Technology Directorate, 245 Murry Lane, Mailstop 0203, Washington, DC 20528, telephone 202-254-5607 (note: this is not a toll-free number).

Dated: August 8, 2013.
Daniel S. Dayton,
Designated Federal Official.

[FR Doc. 2013-20327 Filed 8-16-13; 11:15 am]

BILLING CODE 6820-95-P